DEPARTMENT OF THE INTERIOR

Fish and Wildlife Service

50 CFR Part 17

RIN 1018-AT45

Endangered and Threatened Wildlife and Plants; Notice of the Availability of Draft Economic Analysis for the Proposed Designation of Critical Habitat for the Riverside Fairy Shrimp (Streptocephalus woottoni)

AGENCY: Fish and Wildlife Service, Interior.

ACTION: Proposed rule; notice of availability of draft economic analysis and reopening of public comment period.

SUMMARY: We, the U.S. Fish and Wildlife Service (Service), announce the availability of a draft economic analysis of the proposed designation of critical habitat for the Riverside fairy shrimp (Streptocephalus woottoni), and the reopening of the public comment period on the proposed rule to designate critical habitat for the Riverside fairy shrimp. Comments previously submitted for this proposed rule need not be resubmitted as they have already been incorporated into the public record and will be fully considered in any final decision.

DATES: We will accept comments and information until 5 p.m. on November 18, 2004. Any comments received after the closing date may not be considered in the final decision on this action.

ADDRESSES: Written comments and materials may be submitted to us by any one of the following methods:

1. You may submit written comments and information to the Jim Bartel, Field Supervisor, Carlsbad Fish and Wildlife Office, 6010 Hidden Valley Road, Carlsbad, CA 92009;

2. You may hand-deliver written comments and information to our Carlsbad Fish and Wildlife Office at the above address, or fax your comments to 760/431-9618; or

3. You may send your comments by electronic mail (e-mail) to fw1rvfs@r1.fws.gov. For directions on how to submit electronic filing of comments, by e-mail see the “Public Comments Solicited” section. In the event that our internet connection is not functional, please submit your comments by the alternate methods mentioned above.

FOR FURTHER INFORMATION CONTACT: Jim Bartel, Field Supervisor, Carlsbad Fish and Wildlife Office, at the above address (telephone 760/431-9440; facsimile 760/431-9618).

SUPPLEMENTARY INFORMATION:

Public Comments Solicited

We will accept written comments and information during this reopened comment period. We solicit comments on the original proposed critical habitat designation and on our draft economic analysis of the proposed designation. We are particularly interested in comments concerning:

(1) The reasons why any habitat should or should not be determined to be critical habitat as provided by section 4 of the Act, including whether the benefits of exclusion outweigh the benefits of specifying such area as part of the critical habitat;

(2) Specific information on the amount and distribution of Riverside fairy shrimp and its habitat, and which habitat is essential to the conservation of this species and why;

(3) Land use designations and current or planned activities in the subject areas and their possible impacts on proposed critical habitat;

(4) Any foreseeable economic or other impacts resulting from the proposed designation of critical habitat, in particular, any impacts on small entities or families;

(5) How our approach to critical habitat designation could be improved or modified to provide for greater public participation and understanding, or to assist us in accommodating public concern and comments;

(6) We request information on how many of the State and local environmental protection measures referenced in the draft Economic Analysis were adopted largely as a result of the listing of the Riverside fairy shrimp, and how many were either already in place or enacted for other reasons;

(7) Whether the economic analysis identifies all State and local costs attributable to the proposed critical habitat designation. If not, what other costs are overlooked;

(8) Are the adjustments to local governments' economic data made by the draft Economic Analysis, as set out in its appendices, reasonable? If not, please provide alternative interpretations and the justification for the alternative and/or the reasons the interpretation in the draft Economic Analysis is incorrect;

(9) Whether the economic analysis makes appropriate assumptions regarding current practices and likely regulatory changes imposed as a result of the designation of critical habitat;

(10) Whether the economic analysis appropriately identifies all costs that could result from the designation;

(11) Whether the economic analysis correctly assesses the effect on regional costs associated with land use controls that derive from the designation;

(12) Whether the designation will result in disproportionate economic impacts to specific areas that should be evaluated for possible exclusion from the final designation;

(13) The economic analysis should identify all costs related to the designation of critical habitat for the Riverside fairy shrimp which was intended to take place at the time the species was listed. As a result, the assumption is the economic analysis should be consistent with our listing regulations. We request comment on whether our analysis achieves that consistency;

(14) We request comment on whether it is appropriate that the analysis does not include the cost of project modification to projects that are the result of informal consultation;

(15) We request comment on whether there is information on known or estimated impacts to development activities likely to occur on the lands proposed for designation at the former March Air Force Base;

(16) Some of the lands we have identified as essential for the conservation of the Riverside fairy shrimp are not being proposed as critical habitat. These are: lands on Marine Corps Air Station Miramar; “mission-critical” training areas on Marine Corps Base, Camp Pendleton; areas within San Diego Multiple Species Conservation Program and the Orange County Central-Coastal Natural Communities Conservation Program; and areas in the draft Western Riverside Multiple Species Habitat Conservation Plan. These areas have been excluded because we believe the benefit of excluding these areas outweighs the benefit of including them. We specifically solicit comment on the inclusion or exclusion of such areas, and: (a) Whether these areas are essential; (b) whether these areas warrant exclusion; and (c) the basis for not designating these areas as critical habitat (section 4(b)(2) of the Act); and

(17) We request information from the Department of Defense to assist the Secretary of the Interior in evaluating critical habitat on lands administered by or under the control of the Department of Defense, specifically information regarding impacts to national security associated with proposed designation of critical habitat.

All previous comments and information submitted during the initial comment period on the proposed rule need not be resubmitted. If you wish to comment, you may submit your comments and materials concerning the draft Economic Analysis and the proposed rule by any one of several methods (see ADDRESSES section). Our final designation of critical habitat for the Riverside fairy shrimp will take into consideration all comments and any additional information received.

Our practice is to make comments, including names and home addresses of respondents, available for public review during regular business hours. Individual respondents may request that we withhold their home address, which we will honor to the extent allowable by law. There also may be circumstances in which we would withhold a respondent's identity, as allowable by law. If you wish us to withhold your name and/or address, you must state this prominently at the beginning of your comments. However, we will not consider anonymous comments. We will make all submissions from organizations or businesses, and from individuals identifying themselves as representatives or officials of organizations or businesses, available for public inspection in their entirety. Comments and materials received, as well as supporting documentation used in preparation of the proposal to designated critical habitat, will be available for public inspection, by appointment, during normal business hours at the above address.

If you submit comments by e-mail, please submit them as an ASCII file and avoid the use of any special characters or any form of encryption. Also, please include “Attn: RIN 1018-AT45” and your name and return address in your e-mail message regarding the Riverside fairy shrimp proposed rule. If you do not receive a confirmation from the system that we have received your e-mail message, please submit your comments in writing using one of the alternate methods described above.

Comments and materials received, as well as supporting documentation used in preparation of the proposal to designate critical habitat, will be available for inspection, by appointment, during normal business hours, in our Carlsbad Fish and Wildlife Office at the above address.

Copies of the proposed critical habitat rule for the Riverside fairy shrimp and the draft economic analysis are available on the Internet at http://carlsbad.fws.gov or in hard copy by contacting the Carlsbad Fish and Wildlife Office as identified in the ADDRESSES section above. In the event that our internet connection is not functional, please obtain copies of documents directly from the Carlsbad Fish and Wildlife Office.

Background

On April 27, 2004, we published a proposed rule in the Federal Register (69 FR 23024) to designate critical habitat for the Riverside fairy shrimp. We proposed to designate a total of approximately 5,795 acres (2,345 hectares) of critical habitat in Los Angeles, Orange, Riverside, San Diego, and Ventura Counties, CA. The first comment period on the Riverside fairy shrimp proposed critical habitat rule closed on May 27, 2004.

Critical habitat receives protection from destruction or adverse modification through required consultation under section 7 of the Endangered Species Act of 1973, as amended (Act) (16 U.S.C. 1531 et seq.), with regard to actions carried out, funded, or authorized by a Federal agency. Section 4(b)(2) of the Act requires that we designate or revise critical habitat on the basis of the best scientific and commercial data available, after taking into consideration the economic impact, impact to national security, and any other relevant impacts of specifying any particular area as critical habitat. We have prepared a draft Economic Analysis of the April 27, 2004 (69 FR 23024), proposed designation of critical habitat for the Riverside fairy shrimp.

The draft Economic Analysis considers the potential economic effects of actions relating to the conservation of the Riverside fairy shrimp, including costs associated with sections 4, 7, and 10 of the Act, and including those attributable to designating critical habitat. It further considers the economic effects of protective measures taken as a result of other Federal, State, and local laws that aid habitat conservation for the Riverside fairy shrimp in essential habitat areas. The analysis considers both economic efficiency and distributional effects. In the case of habitat conservation, efficiency effects generally reflect the “opportunity costs” associated with the commitment of resources to comply with habitat protection measures (e.g., lost economic opportunities associated with restrictions on land use). This analysis also addresses how potential economic impacts are likely to be distributed, including an assessment of any local or regional impacts of habitat conservation and the potential effects of conservation activities on small entities and the energy industry. This information can be used by decision-makers to assess whether the effects of the designation might unduly burden a particular group or economic sector. Finally, this analysis looks retrospectively at costs that have been incurred since the date the species was listed as an endangered species and considers those costs that may occur in the 20 years following the designation of critical habitat.

Riverside fairy shrimp-related conservation activities associated with sections 4, 7, and 10 of the Act, including those attributable to designating critical habitat are expected to range from approximately $470 million to $770 million. These totals include $400 million in impacts estimated to have occurred since the species was listed in 1993, and $70 to $370 million in impacts that may occur in the 20 years following the proposed designation of critical habitat.

Author

The primary authors of this notice are the staff of the Carlsbad Fish and Wildlife Office (see ADDRESSES section).

Authority

The authority for this action is the Endangered Species Act of 1973 (16 U.S.C. 1531 et seq.).

Dated: October 8, 2004.
Paul Hoffman,
Acting Assistant Secretary for Fish and Wildlife and Parks.

[FR Doc. 04-23225 Filed 10-18-04; 8:45 am]

BILLING CODE 4310-55-P